DEPARTMENT OF COMMERCE

National Oceanic and Atmospheric Administration

RIN 0648-XD508

Pacific Fishery Management Council; Public Meeting

AGENCY: National Marine Fisheries Service (NMFS), National Oceanic and Atmospheric Administration (NOAA), Commerce.

ACTION: Notice of public meeting.

SUMMARY: The Pacific Fishery Management Council (Pacific Council) will convene a meeting of its Coastal Pelagic Species Management Team (CPSMT). The meeting will be a work session to further develop the draft environmental assessment for Pacific sardine harvest faction.

DATES: The CPSMT meeting will be held Wednesday, October 8 through Thursday, October 9, 2014. The meeting will begin the first day at 12 p.m. and the second day at 8 a.m. The meeting will conclude each day at 5 p.m. or when business for the day has been completed.

ADDRESSES: The meeting will be held in the Pacific Conference Room of the NOAA Southwest Fisheries Science Center, 8901 La Jolla Shores Dr., La Jolla, CA 92037-1508.

FOR FURTHER INFORMATION CONTACT: Kerry Griffin, Staff Officer; telephone: (503) 820-2409.

SUPPLEMENTARY INFORMATION: The purpose of the meeting is to further develop the draft environmental assessment (EA) on Pacific sardine harvest fraction. This will include continued work on the description of the alternatives, work on the analysis of alternatives, as well as other parts of the EA.

The Council initiated a process to use a new temperature index, as well as a new temperature-recruitment relationship, in sardine harvest control rules. The analysis in the draft EA will help the Council make an informed decision, and to take final action, currently scheduled for the November 2014 meeting.

Action will be restricted to those issues specifically listed in this notice and any issues arising after publication of this notice that require emergency action under Section 305(c) of the Magnuson-Stevens Fishery Conservation and Management Act, provided the public has been notified of the CPSMT's intent to take final action to address the emergency.

Special Accommodations

This meeting room is physically accessible to people with disabilities. Requests for sign language interpretation or other auxiliary aids should be directed to Mr. Dale Sweetnam, (858) 546-7170, at least 5 days prior to the meeting date.

Dated: September 17, 2014.
Tracey L. Thompson,
Acting Deputy Director, Office of Sustainable Fisheries, National Marine Fisheries Service.

[FR Doc. 2014-22459 Filed 9-19-14; 8:45 am]

BILLING CODE 3510-22-P